Title 3—

The President

Memorandum of November 30, 2009

Assignment of Functions Under the National Defense Authorization Act for Fiscal Year 2010; the Department of Homeland Security Appropriations Act, 2010; and the Department of the Interior, Environment, and Related Agencies Appropriations Act, 2010

Memorandum for the Secretary of State[,] the Secretary of Defense[, and] the Attorney General

By the authority vested in me as President by the Constitution and the laws of the United States, including section 301 of title 3, United States Code, I hereby assign the authority to perform the functions conferred upon the President by sections 1041(c) and (d) of the National Defense Authorization Act for Fiscal Year 2010 (Public Law 111-84) (NDAA); sections 552(d),(e), and (h) of the Department of Homeland Security Appropriations Act, 2010 (Public Law 111-83) (DHS Appropriations Act); sections 428(d), (e), and (g) of the Department of the Interior, Environment, and Related Agencies Appropriations Act, 2010 (Public Law 111-88) (DOI Appropriations Act); and sections 14103(d) and (f) of the Supplemental Appropriations Act, 2009 (Public Law 111-32), as continued in effect by section 115 of the Continuing Appropriations Resolution, 2010 (Division B of Public Law 111-68), as amended (Supplemental Appropriations Act), as follows:

1. To the Secretary of Defense, in consultation with the Attorney General, the function of providing to the Congress, regarding detainees who will remain in the custody of the Department of Defense, the plans specified in section 1041(c) of the NDAA, section 552(d) of the DHS Appropriations Act, section 428(d) of the DOI Appropriations Act, and section 14103(d) of the Supplemental Appropriations Act;

2. To the Secretary of Defense, the consultation specified in section 1041(d) of the NDAA, regarding detainees who will remain in the custody of the Department of Defense;

3. To the Attorney General, in consultation with the Secretary of Defense, the function of submitting to the Congress the reports specified in section 1041(c) of the NDAA, section 552(d) of the DHS Appropriations Act, section 428(d) of the DOI Appropriations Act, and section 14103(d) of the Supplemental Appropriations Act, regarding detainees who will be transferred to the custody of the Department of Justice;

4. To the Attorney General, the consultation specified in section 1041(d) of the NDAA, regarding detainees who will be transferred to the custody of the Department of Justice;

5. To the Attorney General, in consultation with the Secretary of Defense, the function of submitting to the Congress the reports specified in section 552(h) of the DHS Appropriations Act, section 428(g) of the DOI Appropriations Act, and section 14103(f) of the Supplemental Appropriations Act; and

6. To the Secretary of State, in consultation with the Secretary of Defense, of providing to the Congress the information specified in section 552(e) of the DHS Appropriations Act, section 428(e) of the DOI Appropriations Act.

Any reference in this memorandum to the statutory provisions referenced herein shall be deemed to include references to any hereafter-enacted provisions of law that are the same or substantially the same as such provisions.

The Attorney General is authorized and directed to publish this memorandum in the Federal Register.

THE WHITE HOUSE,

Washington, November 30, 2009.

[FR Doc. E9-28887

Filed 12-1-09; 8:45 am]

Billing code 4410-19-P